DEPARTMENT OF THE INTERIOR

Fish and Wildlife Service

[FWS-R4-R-2014-N108; FXRS12650400000S3-123-FF04R02000]

Sam D. Hamilton Noxubee National Wildlife Refuge, Mississippi; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for Sam D. Hamilton Noxubee National Wildlife Refuge in Oktibbeha, Winston, and Noxubee Counties, Mississippi, for public review and comment. In this Draft CCP/EA, we describe the alternative we propose to use to manage this refuge for the 15 years following approval of the final CCP.

DATES: To ensure consideration, we must receive your written comments by October 27, 2014.

ADDRESSES: You may obtain a copy of the Draft CCP/EA by contacting Steve Reagan, Refuge Manager, by U.S. mail at 13723 Bluff Lake Rd. Brooksville, MS 39739. Alternatively, you may download the document from our Internet Site at http://southeast.fws.gov/planning under “Draft Documents.” Comments on the Draft CCP/EA may be submitted to the above postal address or by email to Laura Housh, Planner, 13723 Bluff Lake Rd. Brooksville, MS 39739; or laura_housh@fws.gov.

FOR FURTHER INFORMATION CONTACT: Steve Reagan, (662) 323-5548 x225 or Steve_Reagan@fws.gov.

SUPPLEMENTARY INFORMATION:

Introduction

With this notice, we continue the CCP process for Sam D. Hamilton Noxubee National Wildlife Refuge (SDHN NWR), started through a notice in the Federal Register on January 15, 2013 (78 FR 3024). For more about the refuge and our CCP process, please see that notice.

SDHN NWR is located within three counties (Noxubee, Oktibbeha, and Winston) in east-central Mississippi, and is approximately 17 miles south-southwest of Starkville and approximately 120 miles north-northeast of Jackson, the capital city of Mississippi. The refuge is currently 48,219 acres. The primary establishing legislation for the Noxubee National Wildlife Refuge is Executive Order 8444, dated June 14, 1940. Established as Noxubee NWR in 1940, the refuge was subsequently renamed Sam D. Hamilton Noxubee NWR by Public Law 112-279 on February 14, 2012.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Priority resource issues addressed in the Draft CCP/EA include Fish and Wildlife Populations, Habitat Management, Resource Protections, Visitor Services, and Refuge Administration.

CCP Alternatives, Including Our Proposed Alternative

We developed three alternatives for managing the refuge (Alternatives A, B, and C), with Alternative C as our proposed alternative. A full description of each alternative is in the Draft CCP/EA. We summarize each alternative below.

Alternative A: Current Management (No Action)

Under this alternative, no major changes to our biological, public use and administrative management practices would occur from their current levels. The refuge would continue to actively manage for waterfowl habitat. Forested bottomland habitats would receive little to no active management. Habitat for red-cockaded woodpeckers would continue as the refuge's highest priority. Habitats would not be managed for historic conditions but maintained to favor a pine dominated forest type. Law enforcement efforts would remain the same. Visitor services would continue at current levels.

Alternative B: Focus on Waterfowl and Federally Listed Species

This alternative emphasizes active habitat management actions that would benefit the endangered red-cockaded woodpecker (RCW) and waterfowl. Visitor service programs and facilities in support of the six priority public uses (i.e., hunting, fishing, wildlife observation, wildlife photography, interpretation, and environmental education) would be much reduced below those levels for Alternatives A and C. Non-wildlife dependent public uses would be phased out. Under this alternative, the refuge would favor management that restores historic forest conditions. The refuge would maintain and, where appropriate, restore the biological integrity, diversity, and environmental health of the refuge.

This alternative would provide approximately 1 million Duck Energy Days (DEDs) over a 110-day period yearly, through the possible combination of managed moist soil units, planted agricultural crops that can be flooded, aquatic vegetation and invertebrates within refuge lakes, and seasonally flooded greentree reservoirs (GTRs) which provide mast crops and invertebrates. Wood duck breeding opportunities would be enhanced. Silvicultural treatments within bottomland hardwood habitats would receive low priority, but may be used to promote recruitment of red oak species within the overstory of those flooded forested habitats used by waterfowl. Manipulation of water level would be the primary tool used to produce the desired shrub-scrub cover. The refuge would participate in wood duck banding programs. Bottomland forests would benefit forest-breeding birds. Active manipulation of habitats for the benefit of forest-breeding birds would be at a priority lower than that required for RCW and waterfowl. The number of red-cockaded woodpecker clusters would be based on continuous pine habitat as defined by historic conditions and the optimal partition size of 308 acres based on the 100-year rotation. A new refuge target goal would be 27 RCW clusters. All RCW partitions would be managed according to the RCW Recovery Plan. Forested habitats would be actively manipulated to produce a forest reflective of historic conditions. No additional, non-historic pine habitats would be maintained or converted for support of the RCW to pine. Refuge staff and possibly contractors would continue to scientifically monitor RCWs through nest and fledge checks. Quantitative monitoring would be limited to RCWs, and other wildlife would be monitored through simple reconnaissance. Efforts would be made to prevent the establishment of exotic invasives and pest species. Water levels in all greentree reservoirs (GTRs) would be managed through water manipulation so that no more than two GTRs would be purposefully flooded for wintering waterfowl habitat yearly. All old fields and the Morgan Hill Prairie Demonstration Area would no longer be maintained. Other than in areas where forests are being restored to their historic condition, the refuge would actively manage forested habitats to maintain the desired wildlife habitat for federally listed species and waterfowl. Upland forests would be managed for historic conditions and, when applicable, management would emphasize needed habitat for federally listed species.

Comprehensive, refuge-wide surveys would be opportunistically sought, but individual cultural resource surveys for only specific projects or sites would be the standard. Partnerships would be developed with other agencies, institutions, and ethnic groups (e.g., Choctaw Nation, African American groups, etc.), to accomplish tasks and seek ideas and means to improve management of cultural resources. Efforts would be made to acquire additional lands in the Approved Acquisition Boundary through fee-simple title and timber for land exchange. The two existing Research Natural Areas (RNAs) would continue to be recognized as if under the Society of American Foresters (SAF) designation, but research objectives and management strategies would remain undeveloped. Improvements to the existing law enforcement program would be based on recommendations provided by the Office of the Chief of Refuge Law Enforcement (LE), Southeast Region, following a program review.

The existing hunting programs would be reduced through reductions in staff and facility support. The visitor center would be closed on weekends. The picnic area and nearby public restrooms would be closed. Fish habitat would not be enhanced for increased recreational uses. Wildlife observation and photography opportunities would be reduced through the reduced availability and maintenance of viewing facilities, such as boardwalks and nature trails. Special use events requiring substantial planning and resources to host would be discontinued. Some of the secondary gravel roads would be closed to vehicles. Signage and information available to the public would be reduced. Public use staff would be eliminated and replaced with biological or forestry technicians. No off-site interpretive programs would be offered. Refuge staff would not participate in Environmental Education; it would be solely dependent on the currently structured partnership with Starkville School District and volunteers.

The staff would be held at 13 or fewer employees, with organizational changes made to increase field staff, including law enforcement officers and biological and forestry technicians. Facilities and equipment would all be placed on a priority list and maintained when funding allowed. Closing or removal of poorly maintained assets would occur. The collection of fees for permitted quota deer and waterfowl hunts would be continued.

Alternative C: Focus on wildlife, habitat diversity, and experiencing nature (Proposed Alternative)

This alternative will manage refuge resources to optimize native wildlife populations and habitats under a balanced and integrated approach, not only for federally listed species (RCW) and migratory birds, but also for other native species such as white-tailed deer, wild turkey, Northern bobwhite, paddlefish, and forest-breeding birds. This alternative also provides opportunities for the six priority public uses (i.e., hunting, fishing, wildlife observation, wildlife photography, interpretation and environmental education) and other wildlife-dependent activities found appropriate and compatible with the purpose for which the refuge was established.

Under this alternative, the refuge would favor management that restores historic forest conditions while achieving refuge purposes. This alternative would provide approximately 1 million Duck Energy Days (DEDs) over a 110-day period yearly, through the possible combination of managed moist soil units, planted agricultural crops that can be flooded, aquatic vegetation and invertebrates within refuge lakes, and seasonally flooded greentree reservoirs which provide mast crops and invertebrates. Wood duck breeding opportunities would be enhanced using wood duck nest boxes, but greater emphasis would be placed on protecting trees with natural cavities throughout the bottomland forests. Trees found with existing cavities and those having unique wildlife values would be protected from timber harvest. Active manipulation of habitats and populations would occur as necessary to maintain biological integrity, diversity, and environmental health. Silvicultural treatments within bottomland hardwood habitats would receive low priority, but may be used to promote recruitment of red oak species within the overstory of those flooded forested habitats used by waterfowl. The refuge would attempt to increase brood survival of waterfowl by managing shallow water aquatic habitats to produce and sustain protective shrub-scrub cover with fringe area of the refuge's lakes. Manipulation of water level would be the primary tool used to produce the desired shrub-scrub cover. The refuge would participate in wood duck banding programs and try to obtain refuge quotas as assigned by the U.S. Fish and Wildlife Service national Migratory Bird program, and limit human access to key areas used by waterfowl to reduce disturbance during critical life cycle stages. Forest-breeding bird populations would be enhanced through improved nesting, brooding, and foraging opportunities by application of active habitat manipulation techniques within bottomland hardwood forested habitats and streamside management zones. Even and uneven aged silviculture, including selective thinning, patch cuts, group tree selections, clearcuts, timber stand improvements, chemical treatments, and other methods, could be used to ensure hardwood species diversity, red oak recruitment into the overstory, and forest structure for the benefit of a diversity of wildlife. The number of red-cockaded woodpecker (RCW) clusters would be based on continuous pine habitat as defined by historic conditions and the optimal partition size of 308 acres based on the 100-year rotation. Mathematically this suggests that the maximum number of clusters feasible on the refuge is 38. However, due to natural habitat variation within the management units, habitat loss between the circular partitions, habitat loss due to inholding, and edge effects due to bordering lands or hardwood habitats, the optimal number and new refuge target goal would be 27 RCW clusters. All RCW partitions would be managed according to the RCW Recovery Plan. Habitat manipulations used to benefit RCWs could include silvicultural practices (e.g., active forest management, including but not limited to manual or mechanized pre-commercial thinning, commercial biomass thinning, mulching, firewood cutting, timber stand improvements, herbicide, irregular shelterwood, shelterwood, seedtree, patch cuts, afforestation, reforestation, and free thinning), prescribed fire, raking, mowing, creation of new artificial cavities, maintenance of suitable cavities, midstory reduction (chemical and/or mechanical control), integrated pest management, use of restrictor plates on cavities, snake exclusion devices, and kleptoparasite control. In order to sustain forest resources for future RCW habitat, harvesting of existing mature forests as part of regeneration efforts within present and future partitions would occur. No additional, non-historic pine habitats would be maintained or converted for support of the RCW to pine. Refuge staff and possibly contractors would continue to scientifically monitor RCWs through nest and fledge checks. Additional quantitative monitoring of a broad suite of wildlife and their habitats will be sought through Nongovernmental Organizations (NGOs), universities and volunteers and participate in the Refuge System's Inventory and Monitoring program for development of standardized survey methods, cataloging and analyzing refuge information. Efforts would be made to prevent the establishment of exotic invasive, and pest species. Deep-water habitats within Bluff Lake would be created through dirt excavation to ensure consistency in recreational fisheries resources (i.e., crappie, bass, and sunfish). Excavated soil from the creation of the deepwater habitat would be used to create islands within the lake to serve as bird rookery sites. Other existing water control structures on Bluff Lake and in areas upstream of the lake would also be modified or removed to allow fish passage. Paddlefish and Gulf Coast Walleye would benefit from the restoration. Additional ephemeral pools for amphibians would be artificially created throughout the refuge through excavation in areas where excess water impedes road maintenance or threatens sedimentation of streams. The Morgan Hill Prairie Demonstration Area would remain but be reduced by more than 50 percent in size and the remaining area would be restored into habitats similar to that indicated by historic conditions. Existing old fields that would not be a direct benefit to federally protected species or waterfowl would continue to be managed as old field sites for the benefit of native grassland species. Old fields that would be a direct benefit to federally protected species or waterfowl would be restored to historical species compositions through natural regeneration or the manual planting of trees. No new field sites would be created. Active forest management including silvicultural treatments, prescribed fire, chemical and/or mechanical midstory reduction would occur throughout the refuge's habitats to achieve desired historic forest conditions, greater habitat diversity and forest structure to benefit RCW, forest interior birds and a wider range of native wildlife. Upland forests would be managed for historic conditions and when applicable management would emphasize providing the needed habitat for federally listed species. If needed to support federally listed species, active forest management would occur using a variety of techniques including timber harvest, prescribed fire, chemical and/or mechanical midstory reduction.

To protect cultural resources, completing a comprehensive, refuge-wide survey of archeological sites would be the goal as well as individual cultural resource surveys as needed for specific projects or sites. Partnerships would be developed with other agencies, institutions, and cultural groups (e.g., Choctaw Nation, African American groups, etc.), to seek ideas and possible share staff positions. The refuge would improve management and interpretation of the refuge's cultural resources. Conservation partnerships would be developed with neighboring landowners and worked through partnerships to have the greatest impact on maintaining or restoring the biological integrity of the local community. Fee title acquisition from willing sellers will focus on lands within the existing approved acquisition boundary that will most efficiently assist the refuge in meeting the purposes for which it was established and the mission of the Service. Under this alternative the two RNAs would no longer remain under this designation and would be managed as part of the larger surrounding units of similar type and managed for their historic conditions. A second Wildlife Law Enforcement Officer would be established in combination with possible collateral duty officer positions to assist in protecting natural and cultural resources along with public safety.

The current level of visitor services programs would be expanded for the general public and attempts made to provide more access for users with disabilities and youth. The Service would develop a week-long, large game (turkey and deer) hunt program to provide increased opportunities for disabled hunters in exchange for a week reduction in the general gun deer and turkey seasons. Deer hunting opportunities overall would be increased. The Service would work with the Mississippi Department of Wildlife, Fisheries, and Parks to develop family hunting and fishing opportunities. Fishing opportunities would be expanded to include year-round designated bank fishing areas on Bluff and Loakfoma Lakes. Other wildlife-dependent uses and their supporting facilities would be maintained and enhanced through upgrades or additional facilities. Alternative funding mechanisms, such as a general user fee under the Fee Program, and partnerships would be used to spread costs of programs across all users possibly eliminating the need for separate hunting related fees. The existing visitor services programs would be increased. This alternative would establish a “Connecting People with Nature” area to consolidate activities and users requiring greater support to enjoy wildlife observation activities. Existing activities that are not considered wildlife dependent uses such as a picnicking area and off-road mountain biking, would not be allowed but more opportunities for bicycling, walking and connecting with nature would be offered through designed trails with increased accessibility for disabled Americans. All existing wildlife dependent uses and the supporting facilities would be maintained and, if resources are available, enhanced through possible increase and better maintenance in overlooks, boardwalks, and trails. An effort would be made to increase visitor safety and enjoyment through establishment of parking areas, improved management of vehicle flow, creation of paved walking and biking trails, and roadside bike lanes along Bluff Lake and Loakfoma Roads. Refuge regulatory and informational signs would receive priority. Partnerships to conduct environmental education and off-site activities and increase volunteer involvement in all its programs would be established. More effort would be placed toward developing cooperative programs sponsored through the Friends.

The current staff of 13 employees would be reorganized under this goal of reaching an optimal staff level of 18 as recommended within the 2008 Final Report for the Staffing Model for Field Stations. This alternative would continue participation in the existing Fee Program. Changes within the program would include establishment of a general access pass for all users to assist in the maintenance and development of public use programs and facilities (e.g., Daily Pass, Weekly Pass or Annual Pass). Current federal duck stamps and other congressionally authorized entrance fee passes would be accepted as a refuge access pass.

Next Step

After the comment period ends, we will analyze the comments and address them.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: July 24, 2014.
Jeffrey M. Fleming,
Acting Regional Director.

[FR Doc. 2014-20479 Filed 8-27-14; 8:45 am]

BILLING CODE 4310-55-P